DEPARTMENT OF COMMERCE

National Institute of Standards and Technology

Government-Owned Inventions Available for Licensing

AGENCY: National Institute of Standards and Technology, Commerce.

ACTION: Notice of Government owned inventions available for licensing.

SUMMARY: The inventions listed below are owned in whole or in part by the U.S. Government, as represented by the Department of Commerce, and are available for licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Building 820, Room 213, Gaithersburg MD 20899; Fax 301-869-2751. Any request for information should include the NIST Docket No. and Title for the relevant invention as indicated below.

SUPPLEMENTARY INFORMATION: NIST may enter into a Cooperative Research and Development Agreement (“CRADA”) with the licensee to perform further research on the inventions for purposes of commercialization. The inventions available for licensing are:

[NIST Docket Number: 96-006D]

Title: Method and Composition for Promoting Improved Adhesion to Substrates.

Abstract: The invention is jointly owned by the U.S. Government, as represented by the Secretary of Commerce, and the American Dental Association Health Foundation. The Department of Commerce's ownership interest in this invention is available for licensing. An etchant primer composition is provided which includes (a) a compound having the formula RN (CH2YCO2M)2 wherein R=R¹ or R²; R¹= an aromatic group; R²=a conjugated aliphatic group; Y=a single bond, CH2, CHCH3 or C=CH2; and each M is independently H, an alkali metal, an alkaline earth metal, aluminum, a transition or redox metal or an alkyl group having 1 to 18 carbon atoms, with the proviso that when both M groups are alkyl groups, the compound corresponding to formula I be capable of being easily hydrolyzed, displaced or exchanged with other reagents present in the etchant/primer composition and (b) a polar solvent system. An etchant/primer/adhesive monomer composition is also provided which includes the etchant/primer composition and an adhesive monomer system. One and two step simplified methods for adhering and for preparing substrate surface, such as a dental substrate surface, to a polymeric material are also provided. Kits which may be used with these compositions and methods are also provided.

[NIST Docket Number: 97-036US]

Title: Silicon-on-Insulator Substrates Using Low Dose Implantation

Abstract: The invention is jointly owned by the U.S. Government, as represented by the Secretary of Commerce, and IBM Corp. The Department of Commerce's ownership interest in this invention is available for licensing. An SOI Substrate and method of forming is described incorporating the steps of implanting oxygen under two conditions and performing two high temperature anneals at temperatures above 1250.degree C. and above 1300.degree C, respectively, at two respective oxygen concentrations. The invention overcomes the problem of high SOI substrate fabrication cost due to ion implant time and of getting high quality buried oxide (BOX) layers below a thin layer of single crystal silicon.

[NIST Docket Number: 00-016US]

Title: Method and Apparatus for Entrainment Mixing of Vapor Into Liquids.

Abstract: Mixing of fluids is a central component to innumerable operations in chemical processing on the plant floor and also in many laboratory operations. Most mixing applications simply require the efficient blending of fluids present in a single phase, such as the mixing of the individual components of a liquid. For these applications, magnetic stirrers often provide a convenient and efficient bending without creating ambient air entrainment into the liquid. This is especially true of fluid mixing operations done in the laboratory. There are many other applications, however, in which the entrainment of a vapor phase with a liquid is specifically desired. Examples of these applications include mixing in two-phase reaction vessels and apparatus to measure vapor liquid equilibrium. These mixing operations are difficult to accommodate with magnetic stirrers because the vast majority of such stirrers are designed not to entrain vapor. In this disclosure, we teach a novel design of a mixing rotor that efficiently mixes the liquid phase and also achieves entrainment of vapor into the liquid.

[NIST Docket Number: 00-031US]

Title: Polyelectrolyte Derivatization of Microfluidic Devices.

Abstract: The invention describes the use of polyelectrolyte multilayers (PEMs) to alter the surface of microchannel surfaces was obtained by coating the channels with alternating layers of poly (allyamine hydrochloride) and poly (styrene sulfonate). The PEMs are easily fabricated and provide a means for controlling the flow direction and the electrosmotic mobility in the microchannels.

[NIST Docket Number: 01-008US]

Title: Chemical Modification of Substrates by Photo-ablation Under Different Local Atmospheres and Chemical Environments for the Fabrication of Microstructures.

Abstract: The invention consists of a one step photo-ablation process that can simultaneously use different gas or liquid atmospheres to pattern microchannels and functionalize the surface of polymer substrates.

Dated: December 4, 2001.
Karen H. Brown,
Deputy Director.

[FR Doc. 01-30629 Filed 12-11-01; 8:45 am]

BILLING CODE 3510-13-M